DEPARTMENT OF LABOR

Office of Workers' Compensation Programs

Advisory Board on Toxic Substances and Worker Health

AGENCY: Office of Workers' Compensation Programs, Department of Labor.

ACTION: Advisory Board on Toxic Substances and Worker Health; notice of Advisory Board Charter renewal.

SUMMARY: In accordance with section 3687 of Public Law 106-398, which was added by section 3141(a) of the National Defense Authorization Act (NDAA) of 2015, Executive Order 13699 (June 26, 2015), and the provisions of the Federal Advisory Committee Act (FACA), as amended (5 U.S.C. A. 2) and its implementing regulations issued by the General Services Administration (GSA), the Advisory Board on Toxic Substances and Worker Health was established on July 2, 2015. The current Charter was signed on June 29, 2017 and expires on June 28, 2019. Pursuant to FACA, Section 14(b)(2), the Secretary of Labor has renewed the Charter for two years.

The Charter renewal allows the Advisory Board on Toxic Substances and Worker Health (Board) to continue its operations. The Board advises the Secretary of Labor (Secretary) with respect to: (1) The Site Exposure Matrices (SEM) of the Department of Labor; (2) medical guidance for claims examiners for claims with the EEOICPA program, with respect to the weighing of the medical evidence of claimants; (3) evidentiary requirements for claims under Part B of EEOICPA related to lung disease; and (4) the work of industrial hygienists and staff physicians and consulting physicians of the Department of Labor and reports of such hygienists and physicians to ensure quality, objectivity, and consistency. The Board, when necessary, coordinates exchanges of data and findings with the Department of Health and Human Services' Advisory Board on Radiation and Worker Health.

Membership of the Board currently consists of 12 members appointed by the Secretary (eleven sitting members and one replacement member pending), who also appointed a Chair. Public Law 106-398, Section 3687(a)(3). Pursuant to Section 3687(a)(2), membership is balanced and includes members from the scientific, medical and claimant communities. The members serve two-year terms. At the discretion of the Secretary, members may be appointed to successive terms or removed at any time. The Board meets no less than twice per year.

The Board reports to the Secretary of Labor. As specified in Section 3687(i), the Board shall terminate ten (10) years after the date of the enactment of the NDAA, which was December 19, 2014. Thus, the Board shall terminate on December 19, 2024.

Electronic copies of this Federal Register notice are available at http://www.regulations.gov. This notice, as well as news releases and other relevant information, are also available on the Advisory Board's web page at http://www.dol.gov/owcp/energy/regs/compliance/AdvisoryBoard.htm.

FOR FURTHER INFORMATION CONTACT: You may contact Douglas Fitzgerald, Designated Federal Officer, at fitzgerald.douglas@dol.gov, or Carrie Rhoads, Alternate Designated Federal Officer, at rhoads.carrie@dol.gov, U.S. Department of Labor, 200 Constitution Avenue NW, Suite S-3524, Washington, DC 20210, telephone (202) 343-5580.

This is not a toll-free number.

Signed at Washington, DC, this 2nd day of July, 2019.
Julia K. Hearthway,
Director, Office of Workers' Compensation Programs.

[FR Doc. 2019-14542 Filed 7-8-19; 8:45 am]

BILLING CODE 4510-24-P